DEPARTMENT OF COMMERCE

National Oceanic and Atmospheric Administration

RIN 0648-XS41

Marine Mammals; File No. 87-1851

AGENCY: National Marine Fisheries Service (NMFS), National Oceanic and Atmospheric Administration (NOAA), Commerce.

ACTION: Notice; receipt of application.

SUMMARY: Notice is hereby given that Daniel P. Costa, PhD, University of California at Santa Cruz, Long Marine Laboratory, 100 Shaffer Road, Santa Cruz, CA, has applied for an amendment to Scientific Research Permit No. 87-1851-03.

DATES: Written, telefaxed, or e-mail comments must be received on or before September 1, 2011.

ADDRESSES: The application and related documents are available for review by selecting “Records Open for Public Comment” from the Features box on the Applications and Permits for Protected Species (APPS) home page, https://apps.nmfs.noaa.gov, and then selecting File No. 87-1851 from the list of available applications.

These documents are also available upon written request or by appointment in the following offices:

Permits, Conservation and Education Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Sloan or Tammy Adams, (301) 427-8401.

SUPPLEMENTARY INFORMATION: The subject permit amendment is requested under the authority of the Marine Mammal Protection Act of 1972, as amended (MMPA; 16 U.S.C. 1361 et seq.), and the regulations governing the taking and importing of marine mammals (50 CFR part 216).

Permit No. 87-1851-03, issued on September 3, 2010 (75 FR 55745), authorizes tagging studies and physiological research on seals in Antarctica (in the Western Antarctic Peninsula, Weddell Sea, and Ross Sea), including 40 Weddell seals (Leptonychotes weddellii), 35 crabeater seals (Lobodon carcinophagus), 35 southern elephant seals (Mirounga leonina), 10 leopard seals (Hydrurga leptonyx), and 5 Ross seals (Ommatophoca rossii). Incidental harassment, mortality, and import of samples from these species is authorized. The permit also authorizes research on California sea lions (Zalophus californianus) to investigate foraging, diving, energetics, food habits, and at-sea distribution along the California coast. Incidental harassment of California sea lions, harbor seals (Phoca vitulina), northern elephant seals (Mirounga augustirostris), and northern fur seals (Callorhinus ursinus) in California is authorized. Unintentional mortality and import of samples from California sea lions is authorized. The permit expires on January 31, 2012.

The permit holder is requesting the permit be amended to extend the permit expiration to December 31, 2012 in order to complete a study initiated in January 2010 examining the foraging behavior and habitat use of the Weddell seal in the Ross Sea. The applicant is requesting authorization to capture and handle up to 70 Weddell seals of any age/sex during 2012 using the same methods currently permitted, and requests authorization for up to four unintentional mortalities due to research conducted in 2012. No other changes to the permit are requested.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 27, 2011.
P. Michael Payne,
Chief, Permits, Conservation and Education Division, Office of Protected Resources, National Marine Fisheries Service.

[FR Doc. 2011-19567 Filed 8-1-11; 8:45 am]

BILLING CODE 3510-22-P